DEPARTMENT OF AGRICULTURE

Animal and Plant Health Inspection Service

[Docket No. APHIS-2011-0039]

Notice of Decision To Authorize the Importation of Fresh Apricot, Sweet Cherry, and Plumcot Fruit From South Africa Into the Continental United States

AGENCY: Animal and Plant Health Inspection Service, USDA.

ACTION: Notice.

SUMMARY: We are advising the public of our decision to authorize the importation into the continental United States of fresh apricot, sweet cherry, and plumcot fruit from South Africa. Based on the findings of a pest risk analysis, which we made available to the public for review and comment through a previous notice, we believe that the application of one or more designated phytosanitary measures will be sufficient to mitigate the risks of introducing or disseminating plant pests or noxious weeds via the importation of fresh apricot, sweet cherry, and plumcot fruit from South Africa. We are also revising a treatment schedule in the Plant Protection and Quarantine Treatment Manual.

DATES: Effective Date: November 3, 2011.

FOR FURTHER INFORMATION CONTACT: Ms. Dorothy C. Wayson, Senior Regulatory Coordination Specialist, Regulations, Permits, and Manuals, PPQ, APHIS, 4700 River Road Unit 141, Riverdale, MD 20737; (301) 734-0772.

SUPPLEMENTARY INFORMATION:

Background

Under the regulations in “Subpart—Fruits and Vegetables” (7 CFR 319.56-1 through 319.56-51, referred to below as the regulations), the Animal and Plant Health Inspection Service (APHIS) of the U.S. Department of Agriculture prohibits or restricts the importation of fruits and vegetables into the United States from certain parts of the world to prevent plant pests from being introduced into and spreading within the United States. Under that process, APHIS may publish a notice in the Federal Register announcing the availability of a pest risk analysis that evaluates the risks associated with the importation of a particular fruit or vegetable. Following the close of the 60-day comment period, APHIS may authorize the importation of the fruit or vegetable subject to the risk-mitigation measures identified in the pest risk analysis if: (1) No comments were received on the pest risk analysis; (2) the comments on the pest risk analysis revealed that no changes to the pest risk analysis were necessary; or (3) changes to the pest risk analysis were made in response to public comments, but the changes did not affect the overall conclusions of the analysis and the Administrator's determination of risk.

In accordance with that process, we published a notice ¹ in the Federal Register on June 1, 2011 (76 FR 31577-31578, Docket No. APHIS-2011-0039), in which we announced the availability, for review and comment, of a pest risk analysis evaluating the risks associated with the importation into the continental United States of fresh apricot, sweet cherry, and plumcot fruit from South Africa. The pest risk analysis consisted of a risk assessment identifying pests of quarantine significance that could follow the pathway of importation of fresh apricot, sweet cherry, and plumcot fruit from South Africa into the United States and a risk management document identifying phytosanitary measures to be applied to those commodities to mitigate the pest risk. In accordance with 7 CFR 305.3(a)(1), we also provided notice that we had determined that it was necessary to revise treatment schedule T107-e in the Plant Protection and Quarantine (PPQ) Treatment Manual ² to include plumcots among the commodities to which that treatment schedule may be applied and the Mediterranean and the Bezzi fruit fly among the pests it is intended to eliminate. We solicited comments on the notice for 60 days ending on August 1, 2011. We did not receive any comments.

¹ To view the notice and the pest risk analysis, go to http://www.regulations.gov/#!docketDetail;D=APHIS-2011-0039.

² The Treatment Manual is available on the Internet at http://www.aphis.usda.gov/import_export/plants/manuals/index.shtml or by contacting the Animal and Plant Health Inspection Service, Plant Protection and Quarantine, Manuals Unit, 92 Thomas Johnson Drive, Suite 200, Frederick, MD 21702.

Therefore, in accordance with the regulations in 319.56-4(c)(2)(ii), we are announcing our decision to authorize the importation into the continental United States of fresh apricot, sweet cherry, and plumcot fruit from South Africa subject to the following phytosanitary measures:

• The fruit must be imported as a commercial consignment, as defined in 319.56-2.

• Each consignment of fruit must be accompanied by a phytosanitary certificate issued by the national plant protection organization of South Africa. For apricots and plumcots only, the phytosanitary certificate must include an additional declaration stating that the fruit was inspected and found free of cinch bug (Macchiademus diplopterus).

• Apricots and plumcots must be cold treated for fruit flies (Ceratitis spp.) and false codling moth (Thaumatotibia leucotreta) in accordance with 7 CFR part 305.

• Sweet cherries must be cold treated for the Mediterranean fruit fly (Ceratitis capitata) in accordance with 7 CFR part 305.

• Each consignment of fruit is subject to inspection upon arrival in the United States.

We are also updating the PPQ Treatment Manual as discussed earlier in this document.

The phytosanitary conditions listed above will also be listed in the Fruits and Vegetables Import Requirements database (available at http://www.aphis.usda.gov/favir). In addition to these specific measures, fresh apricot, sweet cherry, and plumcot fruit from South Africa will be subject to the general requirements listed in § 319.56-3 that are applicable to the importation of all fruits and vegetables. Further, for fruits and vegetables requiring treatment as a condition of entry, the phytosanitary treatment regulations in 7 CFR part 305 contain administrative and procedural requirements that must be observed in connection with the application and certification of specific treatments.

Authority: 7 U.S.C. 450, 7701-7772, and 7781-7786; 21 U.S.C. 136 and 136a; 7 CFR 2.22, 2.80, and 371.3.

Done in Washington, DC, this 28th day of September 2011.
Kevin Shea,
Acting Administrator, Animal and Plant Health Inspection Service.

[FR Doc. 2011-25490 Filed 10-3-11; 8:45 am]

BILLING CODE 3410-34-P